ENVIRONMENTAL PROTECTION AGENCY

40 CFR Part 180

[OPP-2002-0043; FRL-7176-9]

Pesticide Tolerance Nomenclature Changes; Technical Amendment

AGENCY: Environmental Protection Agency (EPA).

ACTION: Proposed rule.

SUMMARY: This document proposes minor revisions to the terminology of certain commodity terms listed under 40 CFR part 180, subpart C. EPA is taking this action to establish a uniform listing of commodity terms.

DATES: Comments, identified by docket ID number OPP-2002-0043, must be received on or before June 17, 2003.

ADDRESSES: Comments may be submitted electronically, by mail, or through hand delivery/courier. Follow the detailed instructions as provided in Unit I. of the SUPPLEMENTARY INFORMATION.

FOR FURTHER INFORMATION CONTACT: Hoyt Jamerson, Registration Division (7505C), Office of Pesticide Programs, Environmental Protection Agency, 1200 Pennsylvania Ave., NW., Washington, DC 20460-0001; telephone number: (703) 308-9368; and e-mail address: jamerson.hoyt@epa.gov.

SUPPLEMENTARY INFORMATION:

I. General Information

A. Does this Action Apply to Me?

You may be potentially affected by this action if you are an agricultural producer, food manufacturer, or pesticide manufacturer. Potentially affected entities may include, but are not limited to:

• Crop production (NAICS 111)

• Animal production (NAICS 112)

• Food manufacturing (NAICS 311)

• Pesticide manufacturing (NAICS 32532)

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed under FOR FURTHER INFORMATION CONTACT.

B. How Can I Get Copies of This Document and Other Related Information?

1. Docket. EPA has established an official public docket for this action under docket identification (ID) number OPP-2002-0043. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1921 Jefferson Davis Hwy., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/. A frequently updated electronic version of 40 CFR part 180 is available at http://www.access.gpo.gov/nara/cfr/cfrhtml_00/Title_40/40cfr180_00.html, a beta site currently under development. To access an electronic copy of the commodity data base entitled Food and Feed Commodity Vocabulary go to: http://www.epa.gov/pesticides/foodfeed/.

An electronic version of the public docket is available through EPA's electronic public docket and comment system, EPA Dockets. You may use EPA Dockets at http://www.epa.gov/edocket/ to submit or view public comments, access the index listing of the contents of the official public docket, and to access those documents in the public docket that are available electronically. Once in the system, select “search,” then key in the appropriate docket ID number.

Certain types of information will not be placed in the EPA Dockets. Information claimed as CBI and other information whose disclosure is restricted by statute, which is not included in the official public docket, will not be available for public viewing in EPA's electronic public docket. EPA's policy is that copyrighted material will not be placed in EPA's electronic public docket but will be available only in printed, paper form in the official public docket. To the extent feasible, publicly available docket materials will be made available in EPA's electronic public docket. When a document is selected from the index list in EPA Dockets, the system will identify whether the document is available for viewing in EPA's electronic public docket. Although not all docket materials may be available electronically, you may still access any of the publicly available docket materials through the docket facility identified in Unit I.B. EPA intends to work towards providing electronic access to all of the publicly available docket materials through EPA's electronic public docket.

For public commenters, it is important to note that EPA's policy is that public comments, whether submitted electronically or in paper, will be made available for public viewing in EPA's electronic public docket as EPA receives them and without change, unless the comment contains copyrighted material, CBI, or other information whose disclosure is restricted by statute. When EPA identifies a comment containing copyrighted material, EPA will provide a reference to that material in the version of the comment that is placed in EPA's electronic public docket. The entire printed comment, including the copyrighted material, will be available in the public docket.

Public comments submitted on computer disks that are mailed or delivered to the docket will be transferred to EPA's electronic public docket. Public comments that are mailed or delivered to the docket will be scanned and placed in EPA's electronic public docket. Where practical, physical objects will be photographed, and the photograph will be placed in EPA's electronic public docket along with a brief description written by the docket staff.

C. How and To Whom Do I Submit Comments?

You may submit comments electronically, by mail, or through hand delivery/courier. To ensure proper receipt by EPA, identify the appropriate docket ID number in the subject line on the first page of your comment. Please ensure that your comments are submitted within the specified comment period. Comments received after the close of the comment period will be marked late. EPA is not required to consider these late comments. If you wish to submit CBI or information that is otherwise protected by statute, please follow the instructions in Unit I.D. Do not use EPA Dockets or e-mail to submit CBI or information protected by statute.

1. Electronically. If you submit an electronic comment as prescribed in this unit, EPA recommends that you include your name, mailing address, and an e-mail address or other contact information in the body of your comment. Also include this contact information on the outside of any disk or CD ROM you submit, and in any cover letter accompanying the disk or CD ROM. This ensures that you can be identified as the submitter of the comment and allows EPA to contact you in case EPA cannot read your comment due to technical difficulties or needs further information on the substance of your comment. EPA's policy is that EPA will not edit your comment, and any identifying or contact information provided in the body of a comment will be included as part of the comment that is placed in the official public docket, and made available in EPA's electronic public docket. If EPA cannot read your comment due to technical difficulties and cannot contact you for clarification, EPA may not be able to consider your comment.

i. EPA Dockets. Your use of EPA's electronic public docket to submit comments to EPA electronically is EPA's preferred method for receiving comments. Go directly to EPA Dockets at http://www.epa.gov/edocket, and follow the online instructions for submitting comments. Once in the system, select search, and then key in docket ID number OPP-2002-0043. The system is an anonymous access system, which means EPA will not know your identity, e-mail address, or other contact information unless you provide it in the body of your comment.

ii. E-mail. Comments may be sent by e-mail to opp-docket@epa.gov, Attention: Docket ID Number OPP-2002-0043. In contrast to EPA's electronic public docket, EPA's e-mail system is not an anonymous access system. If you send an e-mail comment directly to the docket without going through EPA's electronic public docket, EPA's e-mail system automatically captures your e-mail address. E-mail addresses that are automatically captured by EPA's e-mail system are included as part of the comment that is placed in the official public docket, and made available in EPA's electronic public docket.

iii. Disk or CD ROM. You may submit comments on a disk or CD ROM that you mail to the mailing address identified in Unit I.C.2. These electronic submissions will be accepted in WordPerfect or ASCII file format. Avoid the use of special characters and any form of encryption.

2. By mail. Send your comments to: Public Information and Records Integrity Branch (PIRIB) (7502C), Office of Pesticide Programs (OPP), Environmental Protection Agency, 1200 Pennsylvania Ave., NW., Washington, DC 20460-0001, Attention: Docket ID Number OPP-2002-0043.

3. By hand delivery or courier. Deliver your comments to: Public Information and Records Integrity Branch (PIRIB), Office of Pesticide Programs (OPP), Environmental Protection Agency, Rm. 119, Crystal Mall #2, 1921 Jefferson Davis Hwy., Arlington, VA, Attention: Docket ID Number OPP-2002-0043. Such deliveries are only accepted during the docket's normal hours of operation as identified in Unit I.A.1.

II. Background

A. What Action is the Agency Taking?

EPA's Office of Pesticide Programs (OPP) has developed a commodity vocabulary data base entitled Food and Feed Commodity Vocabulary. The data base was developed to consolidate all the major OPP commodity vocabularies into one standardized vocabulary. As a result, all future pesticide tolerances issued under 40 CFR part 180 will use the preferred commodity term as listed in the aforementioned data base. This revision process will establish a uniform presentation of existing commodity terms under 40 CFR part 180. This is the fourth in a series of documents revising the terminology of commodity terms listed under 40 CFR part 180. Two final rules, revising pesticide tolerance nomenclature, were published in the Federal Register on June 19, 2002 (67 FR 41802) (FRL-6835-2), and June 21, 2002 (67 FR 42392) (FRL-7180-1). In this document, EPA is reformatting certain tolerance entries that are not in the standard table format and, at the same time, is making changes to the terminology of the commodity terms in 40 CFR part 180 consistent with previous commodity terminology revisions. Refer to Unit II.A. in the two documents listed above for a description of the commodity term revisions.

III. Statutory and Executive Order Reviews

This document proposes technical amendments to the Code of Federal Regulations which have no substantive impact on the underlying regulations, and it does not otherwise impose or amend any requirements. As such, the Office of Management and Budget (OMB) has determined that a technical amendment is not a “significant regulatory action” subject to review by OMB under Executive Order 12866, entitled Regulatory Planning and Review (58 FR 51735, October 4, 1993). Because this proposed rule has been exempted from review under Executive Order 12866 due to its lack of significance, this proposed rule is not subject to Executive Order 13211, Actions Concerning Regulations That Significantly Affect Energy Supply, Distribution, or Use (66 FR 28355, May 22, 2001). This proposed rule does not contain any information collections subject to OMB approval under the Paperwork Reduction Act (PRA), 44 U.S.C. 3501 et seq., or impose any enforceable duty or contain any unfunded mandate as described under Title II of the Unfunded Mandates Reform Act of 1995 (UMRA) (Public Law 104-4). Nor does it require any special considerations under Executive Order 12898, entitled Federal Actions to Address Environmental Justice in Minority Populations and Low-Income Populations (59 FR 7629, February 16, 1994); or OMB review or any Agency action under Executive Order 13045, entitled Protection of Children from Environmental Health Risks and Safety Risks (62 FR 19885, April 23, 1997). This action does not involve any technical standards that would require Agency consideration of voluntary consensus standards pursuant to section 12(d) of the National Technology Transfer and Advancement Act of 1995 (NTTAA), Public Law 104-113, section 12(d) (15 U.S.C. 272 note). The Regulatory Flexibility Act (RFA) (5 U.S.C. 601 et seq.) generally requires an agency to prepare a regulatory flexibility analysis of any rule subject to notice and comment rulemaking requirements under the Administrative Procedure Act or any other statute unless the agency certifies that the rule will not have a significant impact on a substantial number of small entities. Small entities include small businesses, small organizations, and small governmental organizations. After considering the economic impacts of today's proposed rule on small entities, I certify that this action will not have a significant economic impact on a substantial number of small entities. This action proposes technical amendments to the Code of Federal Regulations which have no substantive impact on the underyling regulations. This technical amendment will not have any negative economic impact on any entities, including small entities. In addition, the Agency has determined that this action will not have a substantial direct effect on States, on the relationship between the national government and the States, or on the distribution of power and responsibilities among the various levels of government, as specified in Executive Order 13132, entitled Federalism(64 FR 43255, August 10, 1999). Executive Order 13132 requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.” This proposed rule directly regulates growers, food processors, food handlers and food retailers, not States. This action does not alter the relationships or distribution of power and responsibilities established by Congress in the preemption provisions of section 408(n)(4) of the FFDCA. For these same reasons, the Agency has determined that this proposed rule does not have any “tribal implications” as described in Executive Order 13175, entitled Consultation and Coordination with Indian Tribal Governments (65 FR 67249, November 6, 2000). Executive Order 13175, requires EPA to develop an accountable process to ensure “meaningful and timely input by tribal officials in the development of regulatory policies that have tribal implications.” “Policies that have tribal implications” is defined in the Executive Order to include regulations that have “substantial direct effects on one or more Indian tribes, on the relationship between the Federal Government and the Indian tribes, or on the distribution of power and responsibilities between the Federal Government and Indian tribes.” This proposed rule will not have substantial direct effects on tribal governments, on the relationship between the Federal Government and Indian tribes, or on the distribution of power and responsibilities between the Federal Government and Indian tribes, as specified in Executive Order 13175. Thus, Executive Order 13175 does not apply to this proposed rule.

List of Subjects in 40 CFR part 180

Administrative practice and procedure, Agricultural commodities, Environmental protection, Pesticides and pest, Reporting and recordkeeping requirements.

Dated: April 9, 2003.
James Jones,
Director, Office of Pesticide Programs.

Therefore, 40 CFR chapter I, part 180, subpart C is proposed to be amended as follows:

PART 180—[AMENDED]

1. The authority citation for part 180 will continue to read as follows:

Authority: 21 U.S.C. 321(q), 346(a) and 374.

2. Section 180.113 is revised to read as follows:

§ 180.113 Allethrin (allyl homolog of cinerin I); tolerances for residues.

(a) General. Tolerances are established for residues of the insecticide allethrin (allyl homolog of cinerin I) in or on the following food commodities:

Commodity | Parts per million
Apple, postharvest | 4
Barley, grain, postharvest | 2
Blackberry, postharvest | 4
Blueberry, postharvest | 4
Boysenberry, postharvest | 4
Cherry, postharvest | 4
Corn, grain, postharvest | 2
Crabapple, postharvest | 4
Currant, postharvest | 4
Dewberry, postharvest | 4
Fig, postharvest | 4
Gooseberry, postharvest | 4
Grape, postharvest | 4
Guava, postharvest | 4
Huckleberry, postharvest | 4
Loganberry, postharvest | 4
Mango, postharvest | 4
Muskmelon, postharvest | 4
Oat, grain, postharvest | 2
Orange, postharvest | 4
Peach, postharvest | 4
Pear, postharvest | 4
Pineapple, postharvest | 4
Plum, postharvest | 4
Plum, prune, fresh, postharvest | 4
Raspberry, postharvest | 4
Rye, grain, postharvest | 2
Sorghum, grain, grain, postharvest | 2
Tomato, postharvest | 4
Wheat, grain, postharvest | 2

(b) Section 18 emergency exemptions. [Reserved]

(c) Tolerances with regional registrations. [Reserved]

(d) Indirect or inadvertent residues. [Reserved]

3. Section 180.116 is revised to read as follows:

§ 180.116 Ziram; tolerances for residues.

(a) General. Tolerances are established for residues of the fungicide ziram (zinc dimethyldithiocarbamate), calculated as zinc ethyl­ene­bis­dith­i­o­car­ba­mate, in or on the following food commodities:

Commodity | Parts per million
Almond | 0.1
Apple | 7¹
Apricot | 7¹
Bean | 7¹
Beet, garden, roots | 7¹
Beet, garden, tops | 7¹
Blackberry | 7¹
Blueberry | 7¹
Boysenberry | 7¹
Broccoli | 7¹
Brussel sprouts | 7¹
Cabbage | 7¹
Carrot, roots | 7¹
Cauliflower | 7¹
Celery | 7¹
Cherry | 7¹
Collards | 7¹
Cranberry | 7¹
Cucumber | 7¹
Dewberry | 7¹
Eggplant | 7¹
Gooseberry | 7¹
Grape | 7¹
Huckleberry | 7¹
Kale | 7¹
Kohlrabi | 7¹
Lettuce | 7¹
Loganberry | 7¹
Melon | 7¹
Nectarine | 7¹
Onion | 7¹
Pea | 7;¹
Peach | 7¹
Peanut | 7¹
Pear | 7¹
Pecan | 0.1
Pepper | 7¹
Pumpkin | 7¹
Quince | 7¹
Radish, roots | 7¹
Radish, tops | 7¹
Raspberry | 7¹
Rutabaga, roots | 7¹
Rutabaga, tops | 7¹
Spinach | 7¹
Squash | 7¹
Squash, summer | 7¹
Strawberry | 7¹
Tomato | 7¹
Turnip, greens | 7¹
Turnip, roots | 7¹
Youngberry | 7¹
¹See footnote 1 to § 180.114.

(b) Section 18 emergency exemptions. [Reserved]

(c) Tolerances with regional registrations. [Reserved]

(d) Indirect or inadvertent residues. [Reserved]

4. Section 180.133 is revised to read as follows:

§ 180.133 Lindane; tolerances for residues.

(a) General. Tolerances are established for residues of the insecticide lindane (gamma isomer of benzene hexachloride) in or on the following food commodities:

Commodity | Parts per million
Apple | 1
Apricot | 1
Asparagus | 1
Avocado | 1
Broccoli | 1
Brussels sprouts | 1
Cabbage | 1
Cattle, fat | 7
Cauliflower | 1
Celery | 1
Cherry | 1
Collards | 1
Cucumber | 3
Eggplant | 1
Goat, fat | 7
Grape | 1
Guava | 1
Hog, fat | 4
Horse, fat | 7
Kale | 1
Kohlrabi | 1
Lettuce | 3
Mango | 1
Melon | 3
Mushroom | 3
Mustard greens | 1
Nectarine | 1
Okra | 1
Onion, dry bulb | 1
Peach | 1
Pear | 1
Pecan | 0.01(N)
Pepper | 1
Pineapple | 1
Plum | 1
Plum, prune, fresh | 1
Pumpkin | 3
Quince | 1
Sheep, fat | 7
Spinach | 1
Squash | 3
Squash, summer | 3
Strawberry | 1
Swiss chard | 1
Tomato | 3

(b) Section 18 emergency exemptions. [Reserved]

(c) Tolerances with regional registrations. [Reserved]

(d) Indirect or inadvertent residues. [Reserved]

5. Section 180.143 is revised to read as follows:

§ 180.143 Dipropyl isocinchomeronate; tolerances for residues.

(a) General. Tolerances are established for residues of the insecticide dipropyl isocinchomeronate, resulting from dermal application, in or on the following food commodities:

Commodity | Parts per million
Cattle, fat | 0.1(N)
Cattle, meat | 0.1(N)
Cattle, meat byproducts | 0.1(N)
Goat, fat | 0.1(N)
Goat, meat | 0.1(N)
Goat, meat byproducts | 0.1(N)
Hog, fat | 0.1(N)
Hog, meat | 0.1(N)
Hog, meat byproducts | 0.1(N)
Horse, fat | 0.1(N)
Horse, meat | 0.1(N)
Horse, meat byproducts | 0.1(N)
Milk | 0.004(N)
Sheep, fat | 0.1(N)
Sheep, meat | 0.1(N)
Sheep, meat byproducts | 0.1(N)

(b) Section 18 emergency exemptions. [Reserved]

(c) Tolerances with regional registrations. [Reserved]

(d) Indirect or inadvertent residues. [Reserved]

6. Section 180.149 is revised to read as follows:

§ 180.149 Mineral oil; tolerances for residues.

(a) General. (1) For the purposes of this section, the insecticide mineral oil is defined as the refined petroleum fraction having the following characteristics:

(i) Minimum flashpoint of 300 °F.

(ii) Gravity of 27 to 34 by the American Petroleum Institute standard method.

(iii) Pour point of 30 °F maximum.

(iv) Color 2 maximum by standards of the American Society for Testing Materials.

(v) Boiling point between 480 °F and 960 °F.

(vi) Viscosity at 100 °F of 100 to 200 seconds Saybolt.

(vii) Unsulfonated residue of 90 percent minimum.

(viii) No sulfur compounds according to the United States Pharmacopeia test under Liquid Petrolatum.

(2) Tolerances for residues of mineral oil as specified in paragraph (a)(1) of this section are established in or on the following food commodities:

Commodity | Parts per million
Corn, grain, postharvest | 200
Sorghum, grain, grain, postharvest | 200

(b) Section 18 emergency exemptions. [Reserved]

(c) Tolerances with regional registrations. [Reserved]

(d) Indirect or inadvertent residues. [Reserved]

7. Section 180.179 is revised to read as follows:

§ 180.179 Tartar emetic; tolerances for residues.

(a) General. Tolerances are established for residues of the insecticide tartar emetic, calculated as combined antimony trioxide, in or on the following food commodities:

Commodity | Parts per million
Fruit, citrus | 3.5
Grape | 3.5
Onion | 3.5

(b) Section 18 emergency exemptions. [Reserved]

(c) Tolerances with regional registrations. [Reserved]

(d) Indirect or inadvertent residues. [Reserved]

8. Section 180.180 is revised to read as follows:

§ 180.180 Orthoarsenic acid; tolerance for residues.

(a) General. A tolerance that expires on July 1, 1995, for combined As2O3 is established for residues of the defoliant orthoarsenic acid in or on the following food commodity:

Commodity | Parts per million
Cotton, undelinted seed | 4

(b) Section 18 emergency exemptions. [Reserved]

(c) Tolerances with regional registrations. [Reserved]

(d) Indirect or inadvertent residues. [Reserved]

9. Section 180.202 is revised to read as follows:

§ 180.202 p-Chlorophenoxyacetic acid; tolerances for residues.

(a) General. (1) A tolerance is established for combined residues of the plant regulator p-chlorophenoxyacetic acid and its metabolite p-chlorophenol in or on the following food commodity:

Commodity | Parts per million
Tomato | 0.05

(2) A tolerance is established for combined residues of the plant regulator p-chlorophenoxyacetic acid and its metabolite p-chlorophenol to inhibit embryonic root development in or on the following food commodity:

Commodity | Parts per million
Bean, mung, sprouts | 2

(b) Section 18 emergency exemptions. [Reserved]

(c) Tolerances with regional registrations. [Reserved]

(d) Indirect or inadvertent residues. [Reserved]

10. Section 180.208 is revised to read as follows:

§ 180.208 N-Butyl-N-ethyl-α·α·α-trifluoro-2,6-dinitro-p-toluidine; tolerances for residues.

(a) General. Tolerances are established for residues of the herbicide N-butyl-N-ethyl-α·α·α-trifluoro-2,6-dinitro-p-toluidine in or on the following food commodities:

Commodity | Parts per million
Alfalfa, forage | 0.05(N)
Alfalfa, hay | 0.05(N)
Clover, forage | 0.05(N)
Clover, hay | 0.05(N)
Lettuce | 0.05(N)
Peanut | 0.05(N)
Trefoil, birdsfoot, forage | 0.05(N)
Trefoil, birdsfoot, hay | 0.05(N)

(b) Section 18 emergency exemptions. [Reserved]

(c) Tolerances with regional registrations. [Reserved]

(d) Indirect or inadvertent residues. [Reserved]

11. Section 180.210 is revised to read as follows:

§ 180.210 Bromacil; tolerances for residues.

(a) General. Tolerances are established for residues of the herbicide bromacil (5-bromo-3-sec-butyl-6-methyluracil) in or on the following food commodities:

Commodity | Parts per million
Fruit, citrus | 0.1
Pineapple | 0.1

(b) Section 18 emergency exemptions. [Reserved]

(c) Tolerances with regional registrations. [Reserved]

(d) Indirect or inadvertent residues. [Reserved]

12. Section 180.212 is revised to read as follows:

§ 180.212 S-Ethyl cyclohexylethylthiocarbamate; tolerances for residues.

(a) General. Tolerances are established for residues of the herbicide S-ethyl cyclohexylethylthiocarbamate in or on the following food commodities:

Commodity | Parts per million
Beet, garden, roots | 0.05(N)
Beet, garden, tops | 0.05(N)
Beet, sugar, roots | 0.05(N)
Beet, sugar, tops | 0.05(N)
Spinach | 0.05(N)

(b) Section 18 emergency exemptions. [Reserved]

(c) Tolerances with regional registrations. [Reserved]

(d) Indirect or inadvertent residues. [Reserved]

13. Section 180.228 is revised to read as follows:

§ 180.228 S-Ethyl hexahydro-1H-azepine-1-carbothioate; tolerances for residues.

(a) General. Tolerances are established for the herbicide S-ethyl hexahydro-11H-azepine-1-carbothioate in or on the following food commodities:

Commodity | Parts per million
Rice, grain | 0.1(N)
Rice, straw | 0.1(N)

(b) Section 18 emergency exemptions. [Reserved]

(c) Tolerances with regional registrations. [Reserved]

(d) Indirect or inadvertent residues. [Reserved]

14. Section 180.232 is revised to read as follows:

§ 180.232 Butylate; tolerances for residues.

(a) General. Tolerances are established for the herbicide butylate in or on the following food commodities:

Commodity | Parts per million
Corn, field, forage | 0.1
Corn, field, grain | 0.1
Corn, field, stover | 0.1
Corn, pop, forage | 0.1
Corn, pop, grain | 0.1
Corn, sweet, forage | 0.1
Corn, sweet, kernel, plus cob with husks removed | 0.1

(b) Section 18 emergency exemptions. [Reserved]

(c) Tolerances with regional registrations. [Reserved]

(d) Indirect or inadvertent residues. [Reserved]

15. Section 180.238 is revised to read as follows:

§ 180.238 S-Propyl butylethylthiocarbamate; tolerances for residues.

(a) General. Tolerances are established for residues of the herbicide S-propyl butylethylthiocarbamate in or on the following food commodities:

Commodity | Parts per million
Beet, sugar, roots | 0.1(N)
Beet, sugar, tops | 0.1(N)
Tomato | 0.1(N)

(b) Section 18 emergency exemptions. [Reserved]

(c) Tolerances with regional registrations. [Reserved]

(d) Indirect or inadvertent residues. [Reserved]

16. Section 180.241 is revised to read as follows:

§ 180.241 S-(O,O-Diisopropyl phosphorodithioate) of N-(2-mercaptoethyl) benzenesulfonamide; tolerances for residues.

(a) General. Tolerances are established for residues of S-(O,O-diisopropyl phosphorodithioate) of N-(2-mercaptoethyl benzenesulfonamide in or on the following food commodities:

Commodity | Parts per million
Carrot, roots | 0.1(N)
Cucurbits | 0.1(N)
Onion, dry bulb | 0.1(N)
Vegetable, fruiting | 0.1(N)
Vegetable, leafy | 0.1(N)

(b) Section 18 emergency exemptions. [Reserved]

(c) Tolerances with regional registrations. [Reserved]

(d) Indirect or inadvertent residues. [Reserved]

17. Section 180.245 is revised to read as follows:

§ 180.245 Streptomycin; tolerances for residues.

(a) General. Tolerances are established for residues of the fungicide streptomycin in or on the following food commodities:

Commodity | Parts per million
Celery | 0.25
Fruit, pome | 0.25
Pepper | 0.25
Potato, from treatment of seed pieces | 0.25
Tomato, from treatment of the seedling plants before transplanting | 0.25

(b) Section 18 emergency exemptions. [Reserved]

(c) Tolerances with regional registrations. [Reserved]

(d) Indirect or inadvertent residues. [Reserved]

18. Section 180.257 is revised to read as follows:

§ 180.257 Chloroneb; tolerances for residues.

(a) General. Tolerances are established for residues of the fungicide chloroneb (1,4-dichloro-2,5-dimethoxybenzene) and its metabolite 2,5-dichloro-4-methoxyphenol (calculated as chloroneb) in or on the following food commodities:

Commodity | Parts per million
Bean | 0.1(N)
Bean, forage | 2
Beet, sugar, roots | 0.1(N)
Beet, sugar, tops | 0.1(N)
Cattle, fat | 0.2
Cattle, meat | 0.2
Cattle, meat byproducts | 0.2
Cotton, forage | 2
Cotton, undelinted seed | 0.1(N)
Goat, fat | 0.2
Goat, meat | 0.2
Goat, meat byproducts | 0.2
Hog, fat | 0.2
Hog, meat | 0.2
Hog, meat byproducts | 0.2
Horse, fat | 0.2
Horse, meat | 0.2
Horse, meat byproducts | 0.2
Milk | 0.05(N)
Sheep, fat | 0.2
Sheep, meat | 0.2
Sheep, meat byproducts | 0.2
Soybean | 0.1(N)
Soybean, forage | 2

(b) Section 18 emergency exemptions. [Reserved]

(c) Tolerances with regional registrations. [Reserved]

(d) Indirect or inadvertent residues. [Reserved]

19. Section 180.288 is revised to read as follows:

§ 180.288 2-(Thiocyanomethylthio)benzothiazole; tolerances for residues.

(a) General. Tolerances are established for residues of the fungicide 2-(thiocyanomethylthio)benzothiazole in or on the following food commodities:

Commodity | Parts per million
Barley, grain | 0.1(N)
Barley, straw | 0.1(N)
Beet, sugar, roots | 0.1(N)
Beet, sugar, tops | 0.1(N)
Corn, grain | 0.1(N)
Corn, forage | 0.1(N)
Corn, stover | 0.1(N)
Cotton, forage | 0.1(N)
Cotton, undelinted seed | 0.1(N)
Oat, forage | 0.1(N)
Oat, grain | 0.1(N)
Oat, hay | 0.1(N)
Oat, straw | 0.1(N)
Rice, grain | 0.1(N)
Rice, straw | 0.1(N)
Safflower, seed | 0.1(N)
Sorghum, grain, forage | 0.1(N)
Sorghum, grain, grain | 0.1(N)
Sorghum, grain, stover | 0.1(N)
Wheat, forage | 0.1(N)
Wheat, grain | 0.1(N)
Wheat, hay | 0.1(N)
Wheat, straw | 0.1(N)

(b) Section 18 emergency exemptions. [Reserved]

(c) Tolerances with regional registrations. [Reserved]

(d) Indirect or inadvertent residues. [Reserved]

20. Section 180.309 is revised to read as follows:

§ 180.309 α-Naphthaleneacetamide; tolerances for residues.

(a) General. Tolerances are established for combined negligible residues of the plant regulator α-naphthaleneacetamide and its metabolite α-naphthaleneacetic acid (calculated as α-naphthaleneacetic acid) in or on the following food commodities:

Commodity | Parts per million
Apple | 0.1
Pear | 0.1

(b) Section 18 emergency exemptions. [Reserved]

(c) Tolerances with regional registrations. [Reserved]

(d) Indirect or inadvertent residues. [Reserved]

21. Section 180.311 is revised to read as follows:

§ 180.311 Cacodylic acid; tolerances for residues.

(a) General. Tolerances are established for residues of the defoliant cacodylic acid (dimethylarsinic acid), expressed as As2 O3, in or on the following food commodities:

Commodity | Parts per million
Cattle, fat | 0.7
Cattle, kidney | 1.4
Cattle, liver | 1.4
Cattle, meat | 0.7
Cattle, meat byproducts, except kidney | 0.7
Cattle, meat byproducts, except liver | 0.7
Cotton, undelinted seed | 2.8

(b) Section 18 emergency exemptions. [Reserved]

(c) Tolerances with regional registrations. [Reserved]

(d) Indirect or inadvertent residues. [Reserved]

22. Section 180.312 is revised to read as follows:

§ 180.312 4-Aminopyridine; tolerances for residues.

(a) General. Tolerances are established for the bird repellent 4-aminopyridine in or on the following food commodities:

Commodity | Parts per million
Corn, forage | 0.1(N)
Corn, field, grain | 0.1(N)
Corn, pop, grain | 0.1(N)
Corn, stover | 0.1(N)
Corn, sweet, kernels plus cob with husks removed | 0.1(N)
Sunflower, seed | 0.1(N)

(b) Section 18 emergency exemptions. [Reserved]

(c) Tolerances with regional registrations. [Reserved]

(d) Indirect or inadvertent residues. [Reserved]

23. Section 180.316 is revised to read as follows:

§ 180.316 Pyrazon; tolerances for residues.

(a) General. Tolerances are established for combined residues of the herbicide pyrazon (5-amino-4-chloro-2-phenyl-3(2H)-pyridazinone) and its metabolites (calculated as pyrazon) in or on the following food commodities:

Commodity | Parts per million
Beet, garden, roots | 0.1(N)
Beet, garden, tops | 1
Beet, sugar, roots | 0.1(N)
Beet, sugar, tops | 1
Milk | 0.01(N)

(b) Section 18 emergency exemptions. [Reserved]

(c) Tolerances with regional registrations. [Reserved]

(d) Indirect or inadvertent residues. [Reserved]

24. Section 180.318 is revised to read as follows:

§ 180.318 4-(2-Methyl-4-chlorophenoxy) butyric acid; tolerance for residues.

(a) General. A tolerance is established for the herbicide 4-(2-methyl-4-chlorophenoxy) butyric acid in or on the following food commodity:

Commodity | Parts per million
Pea | 0.1(N)

(b) Section 18 emergency exemptions. [Reserved]

(c) Tolerances with regional registrations. [Reserved]

(d) Indirect or inadvertent residues. [Reserved]

25. Section 180.344 is revised to read as follows:

§ 180.344 4,6-Dinitro-o-cresol and its sodium salt; tolerance for residues.

(a) General. A tolerance is established for residues of the plant regulator 4,6-dinitro-o-cresol and its sodium salt, from application to apple trees at the blossom stage as a fruit-thinning agent, in or on the following food commodity:

Commodity | Parts per million
Apple | 0.02(N)

(b) Section 18 emergency exemptions. [Reserved]

(c) Tolerances with regional registrations. [Reserved]

(d) Indirect or inadvertent residues. [Reserved]

26. Section 180.360 is revised to read as follows:

§ 180.360 Asulam; tolerance for residues.

(a) General. A tolerance is established for residues of the herbicide asulam (methyl sulfanilylcarbamate) in or on the following food commodity:

Commodity | Parts per million
Sugarcane, cane | 0.1(N)

(b) Section 18 emergency exemptions. [Reserved]

(c) Tolerances with regional registrations. [Reserved]

(d) Indirect or inadvertent residues. [Reserved]

27. Section 180.488 is revised to read as follows:

§ 180.488 Hexaconazole; tolerance for residues.

(a) General. A tolerance is established for residues of the fungicide hexaconazole, [alpha-butyl-alpha-(2,4-dichlorophenyl)-1H-1,2,4-triazole-1-ethanol], in or on the following food commodity:

Commodity | Parts per million
Banana¹ | 0.7
¹There are no U.S. registrations as of June 30, 1999.

(b) Section 18 emergency exemptions. [Reserved]

(c) Tolerances with regional registrations. [Reserved]

(d) Indirect or inadvertent residues. [Reserved]

[FR Doc. 03-9484 Filed 4-17-03; 8:45 am]

BILLING CODE 6560-50-S